DEPARTMENT OF HEALTH AND HUMAN SERVICES

Centers for Disease Control and Prevention

Advisory Committee to the Director (ACD), Centers for Disease Control and Prevention—State, Tribal, Local and Territorial (STLT) Subcommittee Meeting

In accordance with section 10(a)(2) of the Federal Advisory Committee Act (Pub. L. 92-463), the Centers for Disease Control and Prevention (CDC) announces the following meeting of the aforementioned subcommittee:

Time and Date: 11:30 a.m.-1:00 p.m. EDT, April 08, 2016.

Place: This meeting will be held by teleconference.

Status: This meeting is open to the public, limited only by the availability of telephone ports. The public is welcome to participate during the public comment, which is tentatively scheduled from 12:40 p.m. to 12:45 p.m. To participate on the teleconference, please dial (888) 233-0592 and enter code 33288611.

Purpose: The Subcommittee will provide advice to the CDC Director through the ACD on strategies and future needs and challenges faced by State, Tribal, Local and Territorial health agencies, and will provide guidance on opportunities for CDC.

Matters for Discussion: The STLT Subcommittee members will discuss progress on implementation of ACD-adopted recommendations related to the health departments of the future, additional developments that may expand these recommendations, and how CDC can best support STLT health departments.

The agenda is subject to change as priorities dictate.

Contact Person for More Information: John Auerbach, MBA, Designated Federal Officer, STLT Subcommittee, ACD, CDC, 4770 Buford Highway, MS E70, Atlanta, Georgia 30341, Telephone (404) 498-0300, Email: OSTLTSDirector@cdc.gov. Please submit comments to OSTLTSDirector@cdc.gov by April 1, 2016.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2016-05264 Filed 3-8-16; 8:45 am]

BILLING CODE 4163-18-P